DEPARTMENT OF ENERGY

[Docket No. 24-27-LNG]

Sabine Pass Liquefaction, LLC and Sabine Pass Liquefaction Stage V, LLC; Application for Long-Term Authorization To Export Liquefied Natural Gas to Non-Free Trade Agreement Nations

AGENCY: Office of Fossil Energy and Carbon Management, Department of Energy.

ACTION: Notice of application.

SUMMARY: The Office of Fossil Energy and Carbon Management (FECM) of the Department of Energy (DOE) gives notice (Notice) of receipt of an application (Application), filed by Sabine Pass Liquefaction, LLC and Sabine Pass Liquefaction Stage V, LLC (collectively, Sabine Pass Stage 5 or Sabine Pass) on March 1, 2024, and supplemented on March 21, 2024. Sabine Pass Stage 5 requests long-term, multi-contract authorization to export domestically produced liquefied natural gas (LNG) in a volume equivalent to approximately 899.46 billion cubic feet (Bcf) per year (Bcf/yr) of natural gas from the proposed Sabine Pass Stage 5 Expansion Project (Trains 7-8) (Stage 5 Project) to be added to the existing Sabine Pass LNG Terminal (SPLNG Terminal) located in Cameron Parish, Louisiana. Sabine Pass Stage 5 filed the Application under the Natural Gas Act (NGA).

DATES: Protests, motions to intervene, or notices of intervention, as applicable, requests for additional procedures, and written comments are to be filed as detailed in the Public Comment Procedures section no later than 4:30 p.m., Eastern time, June 18, 2024.

ADDRESSES: Electronic Filing by email (Strongly encouraged): fergas@hq.doe.gov. Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov

Cassandra Bernstein, U.S. Department of Energy (GC-76), Office of the Assistant General Counsel for Energy Delivery and Resilience, Forrestal Building, Room 6D-033, 1000 Independence Avenue SW, Washington, DC 20585, (240) 780-1691, cassandra.bernstein@hq.doe.gov

SUPPLEMENTARY INFORMATION: Sabine Pass Stage 5 states that the proposed Stage 5 Project will include two new natural gas liquefaction trains (Trains 7 and 8), a boil-off gas re-liquefaction unit, two full-containment LNG storage tanks and supporting infrastructure, which will be constructed on land controlled under long-term lease by Sabine Pass, adjacent to and interconnected and operated, on an integrated basis, with the existing SPLNG Terminal.¹ Sabine Pass Stage 5 seeks to export LNG by ocean-going carrier from the proposed Stage 5 Project in a volume equivalent to approximately 899.46 Bcf/yr of natural gas (approximately 2.46 Bcf per day) on a non-additive basis to: (i) any country with which the United States has entered into a free trade agreement (FTA) requiring national treatment for trade in natural gas (FTA countries), and (ii) any other country with which trade is not prohibited by U.S. law or policy (non-FTA countries). This Notice applies only to the portion of the Application requesting authority to export LNG to non-FTA countries pursuant to section 3(a) of the NGA.² DOE will review the Applicants' request for an export authorization to FTA countries separately pursuant to NGA section 3(c).³

¹ Sabine Pass Stage 5 states that they have previously received DOE authorizations for LNG exports from six liquefaction trains at the SPLNG Terminal that are already fully operational.

² 15 U.S.C. 717b(a).

³ 15 U.S.C. 717b(c).

Sabine Pass Stage 5 seeks this authorization on its own behalf and as agent for other parties that may hold title to the LNG at the time of export. Sabine Pass Stage 5 requests the authorization for a term commencing on the earlier of the date of first export or seven (7) years from the date of issuance of the requested authorization and extending through the later of (1) December 31, 2050, or (2) a 20-year term.

Additional details can be found in the Application and supplement, posted on the DOE website at: https://www.energy.gov/fecm/articles/sabine-pass-liquefaction-llc-and-sabine-pass-liquefaction-stage-v-llc-fecm-docket-no.

DOE Evaluation

In reviewing Sabine Pass Stage 5's Application, DOE will consider any issues required by law or policy under NGA section 3(a), DOE's regulations, and any other documents deemed appropriate. Parties that may oppose the Application should address these issues and documents in their comments and/or protests, as well as other issues deemed relevant to the Application. The National Environmental Policy Act (NEPA), 42 U.S.C. 4321 et seq., requires DOE to give appropriate consideration to the environmental effects of its proposed decisions. No final decision will be issued in this proceeding before DOE has met its environmental responsibilities.

Public Comment Procedures

In response to this Notice, any person may file a protest, comments, a motion to intervene or notice of intervention, or request for additional procedures, as applicable. Interested parties will be provided 60 days from the date of publication of this Notice in which to submit comments, protests, motions to intervene, or notices of intervention.

Any person wishing to become a party to this proceeding evaluating the Application must file a motion to intervene or notice of intervention. The filing of comments or a protest with respect to the Application will not serve to make the commenter or protestant a party to this proceeding, although protests and comments received from persons who are not parties will be considered in determining the appropriate action to be taken on the Application. All protests, comments, motions to intervene, notices of intervention, or request for additional procedures must meet the requirements specified by the regulations in 10 CFR part 590, including the service requirements.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 24-27-LNG” or “Sabine Pass Stage V Application” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Notice, and any filed protests, motions to intervene, notices of intervention, and comments will be available electronically on the DOE website at www.energy.gov/fecm/regulation.

A decisional record on the Application will be developed through responses to this Notice by parties, including the parties' written comments and replies thereto. Additional procedures will be used as necessary to achieve a complete understanding of the facts and issues. If an additional procedure is scheduled, notice will be provided to all parties. If no party requests additional procedures, a final Opinion and Order may be issued based on the official record, including the Application and responses filed by parties pursuant to this Notice, in accordance with 10 CFR 590.316.

Signed in Washington, DC, on April 15, 2024.
Amy Sweeney,
Director, Office of Regulation, Analysis, and Engagement, Office of Resource Sustainability.

[FR Doc. 2024-08384 Filed 4-18-24; 8:45 am]

BILLING CODE 6450-01-P